DEPARTMENT OF HOMELAND SECURITY

Bureau of Customs and Border Protection

Notice of Revocation of Customs Broker Licenses

AGENCY: Bureau of Customs and Border Protection, U.S. Department of Homeland Security.

ACTION: Customs broker license revocations for the failure to file the 2006 triennial status report and applicable fee.

SUMMARY: Pursuant to section 641 of the Tariff Act of 1930, as amended, (19 U.S.C. 1641) and Title 19 of the Code of Federal Regulations at section 111.30(d), the following Customs broker licenses are revoked without prejudice.

Dallas | Denise Corriveau | 13248
Dallas | Barbara Fredrick | 15115
Dallas | Earl Hartley | 5618
Dallas | Margaret L. Kelcey | 12832
Dallas | Bryan McCarty | 20621
Dallas | Darko Najsul | 21778
Dallas | Pamela J. Santiago | 16150
Dallas | Dale Syth | 22026
Dallas | Shelly L. Wares | 16225
Seattle | Karen Anderson | 16174
Seattle | Dennis Boatman | 04433
Seattle | Steven Brimmer | 05605
Seattle | Alan Canzano | 14701
Seattle | Gordon Dickson | 02794
Seattle | Pauline Donohue | 15466
Seattle | Barbara Frazier | 16892
Seattle | Mary Freeman | 09980
Seattle | Jack Gillam | 03890
Seattle | Scott Kauffman | 17560
Seattle | De Illa Lamb | 11978
Seattle | Karen Lovely | 10411
Seattle | Lori Murvin | 20341
Seattle | Douglas Shaver | 06888
Seattle | Robert Shreve | 05477
Seattle | Billie Ulricksen | 05794
Seattle | Brenda Young | 16783

For the Triennial Report filing period of 2006, Customs and Border Protection notified the above-identified brokers via certified mail, return receipt at their last known address that the Triennial Report was due. At the time of publication of the Notice of Cancellation of Customs Broker License the above-identified brokers were inadvertently omitted. See Notice of Cancellation of Customs Broker License, dated July 25, 2006 (71 FR 42105). The current Notice of Revocation of Customs Broker Licenses will correct this administrative oversight.

Dated: November 10, 2011.
Allen Gina,
Assistant Commissioner, Office of International Trade.

[FR Doc. 2011-29876 Filed 11-17-11; 8:45 am]

BILLING CODE 9111-14-P